DEPARTMENT OF HEALTH AND HUMAN SERVICES

Centers for Medicare & Medicaid Services

[Document Identifier: CMS-10635]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by December 20, 2016.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number __, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10635 Montana Health and Economic Livelihood Partnership (HELP) Federal Evaluation

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: Montana Health and Economic Livelihood Partnership (HELP) Federal Evaluation; Use: CMS approved the Montana Health and Economic Livelihood Partnership (HELP) demonstration in November 2015. The demonstration provides flexibility for the expanded Medicaid population under the Affordable Care Act for individuals in the state of Montana (hereinafter, “State” or “Montana”).

Montana expects to achieve the following: (1) Premiums and copayment liability that will encourage HELP Program enrollees to be discerning health care purchasers, take personal responsibility for their health care decisions and develop health-conscious behaviors as consumers of health care services; (2) 12 month continuous eligibility to improve continuity of care. The State also seeks to demonstrate the following over the life of the demonstration: (1) Premiums will not pose a barrier to accessing care for HELP Program beneficiaries; (2) HELP Program enrollees will exhibit health-conscious health care behaviors without harming beneficiary health; and (3) 12 month continuous eligibility will promote continuity of coverage and reduce churning rates.

The demonstration includes the authority to charge premiums of 2 percent of household income to individuals in the new adult group with incomes between 50 and 133 percent of the FPL. The state will credit such individuals' premium obligation towards copayments due. Non-payment of premiums may result in disenrollment for individuals with incomes above 100 percent of the FPL after notice and a grace period. Individuals at or below 100 percent who stop paying premiums will not be disenrolled.

To adequately inform CMS decision-making regarding Section 1115 Demonstrations, this federal evaluation of Montana's HELP demonstration includes surveys and associated focus groups, and informational interviews conducted during site visits and via phone.

Form Number: CMS-10635 (OMB control number: 0938—New); Frequency: Once and on occasion; Affected Public: Individuals and Households, Business or other for-profits and Not-for-profits institutions, and State, Local, or Tribal Governments; Number of Respondents: 1,458; Total Annual Responses: 1,458; Total Annual Hours: 497. (For policy questions regarding this collection contact Serge King at 410-786-6052.)

Dated: October 18, 2016.
William N. Parham, III,
Director, Paperwork Reduction Staff, Office of Strategic Operations and Regulatory Affairs.

[FR Doc. 2016-25547 Filed 10-20-16; 8:45 am]

BILLING CODE 4120-01-P